DEPARTMENT OF ENERGY

Federal Energy Regulatory Commission

[Project No. 8657-064]

Virginia Hydrogeneration and Historical Society, L.C.; Notice of Availability of Draft Environmental Assessment

November 14, 2003.

In accordance with the National Environmental Policy Act of 1969 and the Federal Energy Regulatory Commission's Regulations, 18 CFR Part 380 (FERC Order No. 486, 52 FR. 47897), the Office of Energy Projects staff (staff) reviewed the Order Proposing Revocation of License for the Harvell Dam Project, located on the Appomattox River in Petersburg, Virginia, and prepared an environmental assessment (EA) for the proposed action at the project. In this EA, staff analyzed the potential environmental effects of the revocation of license and concluded that the revocation, or any other alternative considered, would not constitute a major federal action significantly affecting the quality of the human environment.

A copy of the EA is available for review at the Commission in the Public Reference Room, located at 888 First Street, NE., Room 2A, Washington, DC 20426 or may be viewed on the Commission's Web site at http://www.ferc.gov using the “eLibrary” link. Enter the docket number excluding the last three digits in the docket number field to access the document. For assistance, call toll-free 1-866-208-3676 or e-mail FERCOnlineSupport@ferc.gov. For TTY, call (202) 502-8659.

Any comments should be filed with the Commission by December 15, 2003, and should be addressed to Magalie R. Salas, Secretary, Federal Energy Regulatory Commission, at 888 First Street, NE., Washington, DC 20426. Please affix “Harvell Dam Project No. 8657-064” to all comments. Please provide an original and seven copies of comments. For further information, please contact Monica Maynard at (202) 502-6013, or at monica.maynard@ferc.gov.

Comments may be filed electronically via the internet in lieu of paper. See 18 CFR 385.2001 (a)(1)(iii) and the instructions on the Commission's Web site at http://www.ferc.gov under the “e-Filing” link. The Commission strongly encourages electronic filings.

Magalie R. Salas,
Secretary.

[FR Doc. E3-00344 Filed 11-20-03; 8:45 am]

BILLING CODE 6717-01-P